DEPARTMENT OF DEFENSE

Defense Acquisition Regulations System

48 CFR Part 211

Describing Agency Needs

CFR Correction

In Title 48 of the Code of Federal Regulations, Chapter 2, Parts 200 to 299, revised as of October 1, 2014, on page 68, correct section 211.002-70 to read as follows:

211.002-70 Contract clause.

Use the clause at 252.211-7000, Acquisition Streamlining, in all solicitations and contracts for systems acquisition programs.

[FR Doc. 2015-23456 Filed 9-17-15; 8:45 am]

BILLING CODE 1505-01-D